NUCLEAR REGULATORY COMMISSION

[Docket No. 52-047; NRC-2016-0119]

Tennessee Valley Authority; Clinch River Nuclear Site

AGENCY: Nuclear Regulatory Commission.

ACTION: Early site permit application; acceptance for docketing.

SUMMARY: On May 12, 2016, the Tennessee Valley Authority (TVA) submitted an application to the U.S. Nuclear Regulatory Commission (NRC) for an early site permit (ESP) for the Clinch River Nuclear Site located in Oak Ridge, Tennessee. A notice of receipt and availability of this application was published in the Federal Register on June 23, 2016. The TVA also provided supplemental information in support of the application to the NRC.

DATES: The NRC received the ESP application on May 12, 2016, and docketed it on December 30, 2016.

ADDRESSES: Please refer to Docket ID NRC-2016-0119 when contacting the NRC about the availability of information regarding this document. You may obtain publicly available information related to this document using any of the following methods:

• Federal Rulemaking Web site: Go to http://www.regulations.gov and search for Docket ID NRC-2016-0119. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents,” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, MD 20852.

FOR FURTHER INFORMATION CONTACT: Allen Fetter, Office of New Reactors, U.S. Nuclear Regulatory Commission, Washington, DC 20555-0001, telephone: 301-415-8556, email: Allen.Fetter@nrc.gov.

SUPPLEMENTARY INFORMATION:

I. Introduction

Pursuant to Section 103 of the Atomic Energy Act of 1954, as amended (AEA), and part 52 of title 10 of the Code of Federal Regulations (10 CFR), “Licenses, Certifications, and Approvals for Nuclear Power Plants,” the applicant, TVA, filed an application with the NRC for an ESP in Oak Ridge, Tennessee. In accordance with subpart A of 10 CFR part 52, an applicant may seek an ESP separate from the filing of an application for a construction permit (CP) or combined license (COL) for a nuclear power facility. The ESP process allows resolution of issues relating to siting. At any time during the period of an ESP (up to 20 years), the permit holder may reference the permit in an application for a CP or COL.

The NRC staff has determined that TVA has submitted information in accordance with 10 CFR part 2, “Agency Rules of Practice and Procedure” and 10 CFR part 52, “Licenses, Certifications, and Approvals for Nuclear Power Plants,” that is sufficiently complete and acceptable for docketing. The docket number for this application is “52-047.”

II. Further Information

The NRC staff will perform a detailed technical review of the application, and docketing of the ESP application does not preclude the NRC from requesting additional information from the applicant as the review proceeds, nor does it predict whether the Commission will grant or deny the application. The Commission will receive a report on the application from the Advisory Committee on Reactor Safeguards in accordance with 10 CFR 52.23. An Atomic Safety and Licensing Board Panel will conduct a hearing in accordance with 10 CFR 52.21 and will make an initial decision on the issuance of the permit for the Commission. If the Commission then finds that the application meets the applicable standards of the AEA and the Commission's regulations, and that required notifications to other agencies and bodies have been made, the Commission will issue an ESP, in the form and containing conditions and limitations that the Commission finds appropriate and necessary.

In accordance with 10 CFR part 51, the Commission will also prepare an environmental impact statement for the proposed action. Pursuant to 10 CFR 51.26, and as part of the environmental scoping process, the staff intends to hold a public scoping meeting. Detailed information regarding this meeting will be included in a future Federal Register notice.

Finally, the Commission will announce, in a Federal Register notice, the opportunity to petition for leave to intervene in the hearing required for this application by 10 CFR 52.21.

III. Availability of Documents

The following table indicates the ADAMS accession numbers or Web site links where application documents and supplemental information are available to interested persons.

Document title | ADAMS accession No(s). or Web site
Application Transmittal letter for ESP for Clinch River Nuclear Site | ML16139A752.
Clinch River Nuclear Site Early Site Permit Application, Part 1, Administrative Information | ML16144A033.
Clinch River Nuclear Site Early Site Permit Application, Part 2, Site Safety Analysis Report | ML16144A074.
Clinch River Nuclear Site Early Site Permit Application, Part 3, Environmental Report | ML16144A145.
Clinch River Nuclear Site Early Site Permit Application, Part 5, Emergency Plan | ML16144A150.
Clinch River Nuclear Site Early Site Permit Application, Part 6, Exemptions and Departures | ML16144A151.
Early Site Permit Application—Clinch River Nuclear Site Web site | http://www.nrc.gov/reactors/new-reactors/esp/clinch-river.html.
Calculation Input and Output Files in Support of the Clinch River Nuclear Site Early Site Permit Application | ML16180A307.
Siting Study in Support of the Clinch River Nuclear Site Early Site Permit Application | ML16188A075.
Hydrology Information and Calculation Input and Output Files in Support of the Clinch River Nuclear Site Early Site Permit Application | ML16216A115, ML16280A065, ML16280A066, ML16344A085.
Atmospheric Dispersion Calculation Input and Output Files in Support of the Clinch River Nuclear Site Early Site Permit Application | ML16216A109.
Environmental Alternatives Supplemental Items in Support of the Clinch River Nuclear Site Early Site Permit Application | ML16252A182.
Geologic and Geotechnical Information in Support of the Clinch River Nuclear Site Early Site Permit Application | ML16302A176.
Vibratory Ground Motion Information in Support of the Clinch River Nuclear Site Early Site Permit Application | ML16302A445.
Information on Cumulative Radiological Health Impacts in Support of the Clinch River Nuclear Site Early Site Permit Application | ML16340A259.
Meteorological Information in Support of the Clinch River Nuclear Site Early Site Permit Application | ML16340A256.
Information on Radiation Protection and Accident Consequences in Support of the Clinch River Nuclear Site Early Site Permit Application | ML16340A258.
Information on Alternate Cooling Water Systems in Support of the Clinch River Nuclear Site Early Site Permit Application | ML16344A061.
Information on Terrestrial Ecology in Support of the Clinch River Nuclear Site Early Site Permit Application | ML16348A552.
Information on Stability of Subsurface Materials and Foundation in Support of the Clinch River Nuclear Site Early Site Permit Application | ML16350A420.
Site Selection Information in Support of the Clinch River Nuclear Site Early Site Permit Application | ML16350A429.
Aquatic Ecology Information in Support of the Clinch River Nuclear Site Early Site Permit Application | ML16356A485.
Environmental Protection Plan Information in Support of the Clinch River Nuclear Site Early Site Permit Application | ML16363A378.

The NRC will post other publically available materials related to this application in ADAMS and on the NRC's public Web site at http://www.nrc.gov/reactors/new-reactors/esp/clinch-river.html.

Dated at Rockville, Maryland, this 5th day of January 2017.
For The Nuclear Regulatory Commission.
Francis M. Akstulewicz,
Director, Division of New Reactor Licensing, Office of New Reactors.

[FR Doc. 2017-00529 Filed 1-11-17; 8:45 am]

BILLING CODE 7590-01-P